DEPARTMENT OF ENERGY

Federal Energy Regulatory Commission

Sunshine Act Meeting Notice

The following notice of meeting is published pursuant to section 3(a) of the government in the Sunshine Act (Pub. L. No. 94-409), 5 U.S.C. 552b:

AGENCY HOLDING MEETING: Federal Energy Regulatory Commission.

DATE AND TIME: November 16, 2017, 10:00 a.m.

PLACE: Room 2C, 888 First Street NE., Washington, DC 20426.

STATUS: OPEN.

MATTERS TO BE CONSIDERED: Agenda, * NOTE—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1037th—Meeting
[Regular Meeting; November 16, 2017 10:00 a.m.]
Item No. | Docket No. | Company
ADMINISTRATIVE
A-1 | AD18-1-000 | Agency Administrative Matters.
A-2 | AD18-2-000 | Customer Matters, Reliability, Security and Market Operations.
A-3 | AD07-13-011 | 2017 Report on Enforcement.
ELECTRIC
E-1 | RM16-22-000 | Coordination of Protection Systems for Performance During Faults and Specific Training for Personnel Reliability Standards.
E-2 | RR15-2-005 | North American Electric Reliability Corporation.
E-3 | ER13-75-011, ER15-416-001 | Public Service Company of Colorado.
| ER13-77-010, ER15-433-001 | Tucson Electric Power Company.
| ER13-78-011, ER15-434-001 | UNS Electric, Inc.
| ER13-79-009, ER15-413-001 | Public Service Company of New Mexico.
| ER13-82-009, ER15-411-006 | Arizona Public Service Company.
| ER13-91-008, ER15-426-001 | El Paso Electric Company.
| ER13-96-009, ER15-431-001 | Black Hills Power, Inc.
| ER13-97-009, ER15-430-001 | Black Hills Colorado Electric Utility Company, LP
| ER13-105-005 | NV Energy, Inc.
| ER15-423-001, ER15-428-003 | Nevada Power Company.
| ER15-424-001 | Sierra Pacific Power Company.
| ER13-120-009, ER15-432-001 | Cheyenne Light, Fuel, & Power Company.
E-4 | ER17-1310-001 | New York Independent System Operator, Inc.
E-5 | ER15-572-000, ER15-572-002, ER15-572-006 | New York Independent System Operator, Inc.
E-6 | ER16-120-001, ER16-120-003, EL15-37-002 | New York Independent System Operator, Inc.
E-7 | ER17-2362-000 | PJM Interconnection, L.L.C.
E-8 | ER17-249-001 | PJM Interconnection, L.L.C.
E-9 | ER17-528-000, ER17-528-001 | PJM Interconnection, L.L.C.
E-10 | ER17-1269-000 | FirstEnergy Solutions Corp.
E-11 | ER17-1272-000, ER17-1559-000 | FirstEnergy Solutions Corp.
E-12 | ER17-889-000 | Southwest Power Pool, Inc.
E-13 | ER17-1482-000 | Southwest Power Pool, Inc.
E-14 | ER17-1160-000, ER17-1160-001 | Entergy Arkansas, Inc.
E-15 | ER10-1350-006 | Entergy Services, Inc.
E-16 | ER17-897-000 | Entergy Louisiana, Inc.
E-17 | EL09-61-006 | Louisiana Public Service Commission v. Entergy Corporation, Entergy Services, Inc., Entergy Louisiana, L.L.C., Entergy Arkansas, Inc., Entergy Mississippi, Inc., Entergy New Orleans, Inc., Entergy Gulf States Louisiana, L.L.C. and Entergy Texas, Inc.
E-18 | ER17-1221-000 | NorthWestern Corporation.
E-19 | ER17-1014-000 | Midcontinent Independent System Operator, Inc.
E-20 | ER16-938-005, ER16-938-006 | Arizona Public Service Company.
E-21 | ER17-558-000 | Louisville Gas and Electric Company.
E-22 | ER17-1386-000 | Bishop Hill Energy LLC.
E-23 | EL16-78-001, QF90-203-008 | Saguaro Power Company, A Limited Partnership.
E-24 | EL17-74-000, QF90-73-009 | EF Kenilworth LLC.
E-25 | EL16-112-001 | Coalition of MISO Transmission Customers v. Midcontinent Independent System Operator, Inc.
| ER17-892-000 | Midcontinent Independent System Operator, Inc.
E-26 | EL17-13-000 | American Municipal Power, Inc., Blue Ridge Power Agency, Craig-Botetourt Electric Cooperative, Indiana Michigan Municipal Distributors Association, Indiana Municipal Power Agency, Old Dominion Electric Cooperative, Inc., Wabash Valley Power Association, Inc. v. Appalachian Power Company, Columbus Southern Power Company, Indiana Michigan Power Company, Kentucky Power Company, Kingsport Power Company, Ohio Power Company, Wheeling Power Company, AEP Appalachian Transmission Company, Inc., AEP Indiana Michigan Transmission Company, Inc., AEP Kentucky Transmission Company, Inc., AEP Ohio Transmission Company, Inc. and AEP West Virginia Transmission Company, Inc.
E-27 | EL17-76-000 | East Texas Electric Cooperative, Inc. v. Public Service Company of Oklahoma, Southwestern Electric Power Company, AEP Oklahoma Transmission Company and AEP Southwestern Transmission Company.
E-28 | EL17-59-000 | Joint California Complainants v. Pacific Gas and Electric Company.
E-29 | EL16-120-001 | New England Power Generators Association, Inc. v. ISO New England Inc.
GAS
G-1 | OR14-4-000, OR14-4-001 | Guttman Energy, Inc., d/b/a, Guttman Oil Company, and PBF Holding Company, LLC v. Buckeye Pipe Line Company, L.P. and Laurel Pipe Line Company, L.P.
G-2 | RP17-887-000 | Equitrans, L.P.
HYDRO
H-1 | P-13160-010 | Red River Hydro, LLC.
H-2 | P-2146-217 | Alabama Power Company.
H-3 | P-1417-269 | Jeffrey Lake Development, Inc.
CERTIFICATES
C-1 | CP16-17-001 | Millennium Pipeline Company, L.L.C.

Issued: November 9, 2017.
Nathaniel J. Davis, Sr.,
Deputy Secretary.

A free webcast of this event is available through www.ferc.gov. Anyone with Internet access who desires to view this event can do so by navigating to www.ferc.gov's Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2017-24794 Filed 11-13-17; 11:15 am]

BILLING CODE 6717-01-P